DEPARTMENT OF AGRICULTURE

Animal and Plant Health Inspection Service

[Docket No. 02-060-1]

Availability of an Environmental Assessment

AGENCY: Animal and Plant Health Inspection Service, USDA.

ACTION: Notice of availability and request for comments.

SUMMARY: We are advising the public that an environmental assessment has been prepared by the Animal and Plant Health Inspection Service relative to the control of rush skeletonweed, Chondrilla juncea (Asteraceae). The environmental assessment considers the effects of, and alternatives to, the release of a nonindigenous organism, Bradyrrhoa gilveolella (Treitschke) (Lepidoptera: Pyralidae), into the environment for use as a biological control agent to reduce the severity of rush skeletonweed infestations. We are making this environmental assessment available to the public for review and comment.

DATES: We will consider all comments that we receive on or before August 26, 2002.

ADDRESSES: You may submit comments by postal mail/commercial delivery or by e-mail. If you use postal mail/commercial delivery, please send four copies of your comment (an original and three copies) to: Docket No. 02-060-1, Regulatory Analysis and Development, PPD, APHIS, Station 3C71, 4700 River Road Unit 118, Riverdale, MD 20737-1238. Please state that your comment refers to Docket No.02-060-1. If you use e-mail, address your comment to regulations@aphis.usda.gov. Your comment must be contained in the body of your message; do not send attached files. Please include your name and address in your message and “Docket No. 02-060-1” on the subject line.

You may read any comments that we receive on the environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Tracy A. Horner, Entomologist, Biological and Technical Services, PPQ, APHIS, 4700 River Road Unit 133, Riverdale, MD 20737-1228; (301) 734-5213.

SUPPLEMENTARY INFORMATION:

Background

The Animal and Plant Health Inspection Service (APHIS) is considering an application from the University of Montana for a permit to release a nonindigenous organism, Bradyrrhoa gilveolella (Treitschke) (Lepidoptera: Pyralidae), to reduce the severity of rush skeletonweed, Chondrilla juncea (Asteraceae), in the continental United States.

Native to Eurasia, rush skeletonweed has become established in the District of Columbia and several States including California, Delaware, Georgia, Idaho, Indiana, Maryland, Michigan, Montana, New Jersey, New York, Oregon, Pennsylvania, Virginia, Washington, and West Virginia. This invasive weed infests roadsides, railways, rangelands, pastures, grain fields, coastal sand dunes, and shaley hillsides in mountainous regions. Rush skeletonweed causes losses in infested grain fields, reduces rangeland forage production, and reduces plant and animal diversity.

While chemical, mechanical, and cultural methods are available to control rush skeletonweed, these methods may damage the environment. In addition, the effectiveness of biological control agents that are currently used to control rush skeletonweed appears to vary depending upon the location; e.g., in California, a rust (Puccinia chondrillina) appears to be more effective in controlling rush skeletonweed, and in eastern Washington, a gall mite (Aceria chondrillae) appears to be more effective in controlling it.

The biological control agent B. gilveolella has the potential to suppress rush skeletonweed populations in the continental United States. B. gilveolella larvae feed on the roots of rush skeletonweed, causing the plant to die or increasing its susceptibility to pathogenic fungi. APHIS has completed an environmental assessment that considers the effects of, and alternatives to, releasing B. gilveolella into the environment for the biological control of rush skeletonweed infestations.

APHIS' review and analysis of the potential environmental impacts associated with releasing B. gilveolella into the environment are documented in detail in the environmental assessment, entitled “Field Release of Bradyrrhoa gilveolella (Lepidoptera: Pyralidae), for Biological Control of Rush Skeletonweed, Chondrilla juncea (Asteraceae)” (May 2002). We are making this environmental assessment available to the public for review and comment. We will consider all comments that we receive by the date listed under the heading DATES at the beginning of this notice.

The environmental assessment may be viewed on the Internet at http://www.aphis.usda.gov/ppq/ by accessing “Document/Forms Retrieval System,” then “3-Permits-Pests”; the environmental assessment is document number 0032. You may request copies of the environmental assessment by calling or writing to the person listed under FOR FURTHER INFORMATION CONTACT. Please refer to the title of the environmental assessment when requesting copies. The environmental assessment is also available for review in our reading room (information on the location and hours of the reading room is listed under the heading ADDRESSES at the beginning of this notice).

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 19th day of July 2002.
Peter Fernandez,
Acting Administrator, Animal and Plant Health Inspection Service.

[FR Doc. 02-18845 Filed 7-24-02; 8:45 am]

BILLING CODE 3410-34-P